FEDERAL COMMUNICATIONS COMMISSION

47 CFR Parts 0, 1, 5, 73, and 74

[MB Docket No. 18-121; FCC 18-174]

Posting of Station Licenses and Related Information

AGENCY: Federal Communications Commission.

ACTION: Final rule.

SUMMARY: In this document, the Federal Communications Commission (FCC or Commission) eliminates provisions of our rules that require broadcasters to post and maintain copies of their licenses and related information in specific locations. These rules have become redundant and obsolete now that licensing information is readily accessible online through the Commission's databases, including CDBS, LMS, and ULS. It therefore finds that eliminating these rules, which apply in some form to all broadcast licensees, will serve the public interest.

DATES: Effective February 8, 2019.

FOR FURTHER INFORMATION CONTACT: For additional information, contact Jonathan Mark, Jonathan.Mark@fcc.gov, of the Media Bureau, Policy Division, (202) 418-3634. Direct press inquiries to Janice Wise at (202) 418-8165.

SUPPLEMENTARY INFORMATION: This is a summary of the Commission's Report and Order (Order), FCC 18-174, adopted December 10, 2018 and released on December 11, 2018. The full text of this document is available electronically via the FCC's Electronic Document Management System (EDOCS) website at http://fjallfoss.fcc.gov/edocs_public/ or via the FCC's Electronic Comment Filing System (ECFS) website at http://fjallfoss.fcc.gov/ecfs2/. (Documents will be available electronically in ASCII, Microsoft Word, and/or Adobe Acrobat.) This document is also available for public inspection and copying during regular business hours in the FCC Reference Information Center, which is located in Room CY-A257 at FCC Headquarters, 445 12th Street SW, Washington, DC 20554. The Reference Information Center is open to the public Monday through Thursday from 8:00 a.m. to 4:30 p.m. and Friday from 8:00 a.m. to 11:30 a.m. The complete text may be purchased from the Commission's copy contractor, 445 12th Street, SW, Room CY-B402, Washington, DC 20554. Alternative formats are available for people with disabilities (Braille, large print, electronic files, audio format), by sending an email to fcc504@fcc.gov or calling the Commission's Consumer and Governmental Affairs Bureau at (202) 418-0530 (voice), (202) 418-0432 (TTY).

Synopsis

I. Report and Order

1. In this Report and Order (Order), we eliminate the provisions in parts 1, 5, 73 and 74 of our rules that require the posting and maintenance of broadcast licenses and related information in specific locations.¹ In May 2018, the Federal Communications Commission (Commission) issued a Notice of Proposed Rulemaking (NPRM) (83 FR 30901) seeking comment on whether to eliminate license posting rules that appeared to be redundant and obsolete now that licensing information is readily accessible online through the Commission's databases. Commenters in this proceeding unanimously support the elimination of these rules. As detailed below, we find that eliminating these requirements, which apply in some form to all broadcast licensees, will serve the public interest. In doing so, we advance the Commission's goal of modernizing our media rules and remove unnecessary regulatory burdens that impede competition and innovation in the media marketplace.

¹ By this Order, we also eliminate provisions in our rules which reference or cross-reference broadcast license posting rules.

2. Broadcast license posting rules predate the establishment of the Commission. As explained in the NPRM, the Federal Radio Commission promulgated the earliest iteration of broadcast license posting requirements on record in 1930. Subsequent Commission decisions revised and expanded to new broadcast services license posting obligations and requirements to maintain records at specific locations, but provided no explicit rationale for such rules. Based on the text and history of these rules, the NPRM noted that the intended purpose of the rules may have been to ensure that information regarding station authorizations, ownership, and contact information was readily available and easily accessible to the Commission and public. Commenters in this proceeding do not identify any alternative purpose or use for these rules and maintain that, with the advent of online sources for licensee information, the burdens that compliance with these rules imposes on licensees clearly outweigh any original benefits they may have provided.

3. Consistent with our proposals in the NPRM, we eliminate the license posting rules applicable to broadcasters and the related rules that require records to be maintained at specific locations.² We agree with commenters that “while the posting rule[s] may have made sense almost 90 years ago” they no longer serve the public interest given that all Commission licenses and related authorizations required to be displayed or maintained are now available “24/7” through publicly accessible online databases. Specifically, broadcast station licenses and other authorizations are currently accessible online through several Commission databases, including the Commission's Consolidated Database System (CDBS), Licensing Management System (LMS), and Universal Licensing Service (ULS).³ For full power and Class A television stations and AM and FM radio stations, licenses and related authorizations are also accessible through the Commission's Online Public Inspection File.⁴ In addition, the public may access orders and dispositions regarding station construction or facilities operation, which are required to be physically posted pursuant to two of our existing rules, through the Commission's online licensing databases.

² Specifically, we eliminate the following rules, each of which applies specifically to broadcast licensees: 47 CFR 73.1230 (all broadcast licensees), 74.564 (aural broadcast auxiliary stations), 74.664 (television broadcast auxiliary stations), 74.765 (LPTV and TV translator stations), and 74.1265 (FM translator and booster stations). In addition, we amend the following rules to eliminate license posting obligations: 47 CFR 1.62(a)(2) (which currently requires all Commission licensees to post information pertaining to license renewal applications as well as the license itself, so that it applies only to non-broadcast licensees), 5.203(b) (removing the requirement to post experimental licenses), 74.432(j) (removing the requirement that remote pickup station licenses be “posted at the transmitter, or posted at the control point of the station”), 74.832(j) (removing the requirement that low power auxiliary station licenses be “posted at the transmitter, or posted at the control point of the station”). The NPRM incorrectly proposed to amend paragraph (a)(3)(viii) of 47 CFR 74.787, instead of paragraph (a)(5)(viii). This has been corrected in the Final Rules. We also note that one additional change not captured in the NPRM is in the Final Rules below.

³ Specifically, this information is readily available through CDBS, http://licensing.fcc.gov/prod/cdbs/pubacc/prod/app_sear.htm. Similarly, the public may access copies of a station's license, which includes the station call sign and name, address, and telephone number of the station licensee and point of contact, through LMS, https://enterpriseefiling.fcc.gov/dataentry/login.html and/or ULS, http://wireless.fcc.gov/uls/index.htm?job=home. While most broadcast licenses are accessible through CDBS and LMS, licenses for aural and television broadcast auxiliary services are accessible through ULS. In addition, information regarding broadcast license renewal applications, which must be posted pursuant to § 1.62(a) of the rules, is available online via CDBS and LMS. 47 CFR 1.62(a) (requiring posting of, “in addition to the original license, any acknowledgment received from the Commission that the renewal application has been accepted for filing or a signed copy of the application for renewal of license which has been submitted by the licensee”).

⁴ Online Public Inspection File, available at https://publicfiles.fcc.gov/. See 47 CFR 73.3526 (governing public file obligations of commercial full power AM, FM, and TV stations and Class A television stations); 47 CFR 73.3527 (governing public file obligations of noncommercial educational broadcast stations).

4. We also find the additional posting requirements in §§ 74.765(b) and 74.1265(b) of our rules to be unnecessary for similar reasons. These provisions require that LPTV, translator, and booster stations post at the transmitter site the station's call sign; the name, address, and telephone number of the licensee or local representative of the licensee; and “the name and address of a person and place where the station records are maintained.” As Nexstar notes in its comments, much of the information required to be posted under these rules is available on the station licenses or authorizations themselves, which as noted above, the public may easily access online via CDBS, LMS, or ULS. This information includes the station's call sign and the name and address of the station's licensee. Although LPTV, translator, and booster stations are not required to maintain public inspection files, they must include the contact information, including a telephone number, of personnel that may serve as a general point of contact on various Commission forms, which are publicly available via our online licensing databases. We therefore find no continued need for broadcasters to separately identify a local representative or a custodian of station records and display such information.⁵ Moreover, no commenter has provided any justification for continuing to require broadcasters to post or maintain at specific locations a physical copy of their licenses, authorizations, or general or local contact information.

⁵ Since we do not find that the public interest necessitates separately compiling custodian of records' contact information online, we decline to adopt HC2's proposal to modify existing Commission forms to solicit this information.

5. We further find that requirements to physically display licensing documents at the site of broadcast facilities are often ineffective. As NAB illustrates, requirements that mandate posting at the transmission site can be of little benefit to the public because certain transmission sites, including those of booster and translator stations, “are often in areas surrounded by security fencing, thereby limiting the public access to these facilities and any posted information.” Further, provisions mandating that broadcasters post licenses and other authorizations at the “principal [control] point of the transmitter” have been rendered obsolete by the internet, which has enabled broadcasters to transition to dial-up or IP systems that manage their transmitter stations remotely through a smartphone or personal computer. This trend, in conjunction with the elimination of the broadcast main studio rule, has rendered the physical posting of licenses out of step with technology and our other rules. We agree with NAB that “posting physical documents at transmission facilities is redundant and provides no meaningful value to the public,” and we eliminate these requirements.

6. There is no evidence in the record suggesting that eliminating license posting and related requirements would undermine any public safety objectives. HC2 explains that posted information “is often barely visible because the posting is well above eye level, or obscured by other equipment, or damaged and faded as a result of weather” and is therefore not useful during emergencies.⁶ In these circumstances, the contact information first responders need is readily available through the Commission databases.⁷ Commenters also explain that because licensees typically do not own the towers on which their antennas are placed, eliminating requirements to have licensees' information physically displayed would not likely impede a first responder's ability to contact the appropriate person during an emergency. In many cases, antenna structure registration numbers allow first responders and others to rapidly identify the owner of a tower structure in the event of a tower lighting outage, collision or other problem, removing the need for licensee contact information.

⁶ HC2 further notes that posted information often is of limited utility because it is in a different location from the site of an emergency. For example, “posted contact information at the transmitter, even if perfectly visible and accessible, is not helpful when the emergency is at the antenna site,” which may be “some distance away,” or vice versa. HC2 Comments at 5 (“For example, a firefighter battling a fire at an antenna site would not have any use for contact information posted at the transmitter quite some distance away.”).

⁷ We acknowledge that natural disasters may in some instances limit the ability of first responders to access these databases. For instance, immediately after Hurricane Maria, over 95 percent of Puerto Rico's wireless cell sites were out of service. On a going forward basis, we commit to monitoring the impact of this rule change on first responders' ability to access the contact information they need in the event of an emergency.

7. For the foregoing reasons, we find that the provisions in parts 1, 5, 73 and 74 of our rules requiring the physical posting and maintenance of broadcast licenses and related information at specific locations are redundant, obsolete, and unduly burdensome. Accordingly, we find that eliminating these requirements, as well as associated cross-references to them and similar requirements, is in the public interest and that the benefits of eliminating these requirements outweigh any costs of doing so.

II. Procedural Matters

A. Final Regulatory Flexibility Act Analysis

8. As required by the Regulatory Flexibility Act of 1980, as amended (RFA),⁸ an Initial Regulatory Flexibility Analysis (IRFA) was incorporated in the Notice of Proposed Rulemaking (NPRM) in MB Docket 18-121.⁹ The Commission sought written public comments on proposals in the NPRM, including comment on the IRFA. The Commission received no direct comments on the IRFA. The present Final Regulatory Flexibility Analysis (FRFA) conforms to the RFA.

⁸ See 5 U.S.C. 603. The RFA, see U.S.C. 601-612, has been amended by the Small Business Regulatory Enforcement Fairness Act of 1996 (SBREFA), Public Law 104-121, Title II, 110 Stat. 857 (1996). The SBREFA was enacted as Title II of the Contract with America Advancement Act of 1996 (CWAAA).

⁹ Amendment of Parts 0, 1, 5, 73, and 74 of the Commission's Rules Regarding Posting of Station Licenses and Related Information, Notice of Proposed Rulemaking, 33 FCC Rcd 4757 (May 10, 2018) (NPRM) (83 FR 30901).

9. Need for, and Objectives of, the Report and Order. The Report and Order (Order) arises from a Public Notice issued by the Commission in May 2017, launching an initiative to modernize the Commission's media regulations, and the subsequent NPRM.¹⁰ It eliminates provisions of the Commission's rules which require the posting and maintenance of broadcast licenses and related information in specific locations. Numerous parties in those proceedings argued for the elimination of these rules on the basis that they are redundant and obsolete.

¹⁰ See id.; Commission Launches Modernization of Media Regulation Initiative, Public Notice, 32 FCC Rcd 4406 (2017) (initiating a review of rules applicable to media entities to eliminate or modify regulations that are outdated, unnecessary or unduly burdensome).

10. Specifically, the Order eliminates: Section 73.1230, which requires broadcast stations to post their station license and other authorizations at “the principal control point of the transmitter” and prescribes the manner of such posting; ¹¹ § 73.801, which applies § 73.1230 to low power stations; ¹² § 74.1265, which requires FM booster and translator stations to physically display their call sign and other information at the antenna site; ¹³ §§ 74.564 and 74.664, applicable to aural and television broadcast auxiliary stations,¹⁴ respectively, which require stations to post licenses and any other authorizations “in the room in which the transmitter is located” and prescribes the manner of such posting; ¹⁵ §§ 74.432(j) and 74.832(j), which require remote pickup station and low power auxiliary station licensees to post licenses either at the transmitter or station control point; ¹⁶ § 5.203(b),¹⁷ which requires broadcast licensees to post experimental authorizations along with their station license; § 1.62(a)(2),¹⁸ which requires all Commission licensees, including broadcast entities, to post information pertaining to license renewal applications as well as the license itself; and § 74.765, which requires LPTV and TV translator to physically display their call sign together with the name, address, and telephone number of the licensee or local representative of the licensee and the name and address of a person and place where station records are maintained at the antenna site. Sections 74.765(a) and 74.1265(a) also contain record maintenance obligations that this Order eliminates because they are duplicative of §§ 74.781 and 74.1281, respectively.

¹¹ 47 CFR 73.1230.

¹² 47 CFR 73.801.

¹³ 47 CFR 74.1265.

¹⁴ 47 CFR 74.564, 74.664.

¹⁵ 47 CFR 74.565; 47 CFR 74.664.

¹⁶ 47 CFR 74.432(j), 74.832(j).

¹⁷ 47 CFR 5.203(b).

¹⁸ 47 CFR 1.62(a)(2).

11. The Order also removes similar requirements and cross-references to licenses posting rules as follows: Section 0.408 (cross-referencing the license posting rules); § 73.158(b), which requires any updated descriptions of directional antenna monitoring points to be “posted with the existing station license”; § 73.801, which applies § 73.1230 to LPFM stations; § 73.1715(a), which requires broadcast licensees authorized to share time to file written agreements with the Commission and post with the station license; § 73.1725(c), requiring “the licensee of a secondary station which is authorized to operate limited time” to post approval of its limited time operating schedule with the station license); § 73.1870(b)(3), which states that “the designation of the chief operator [for full power and Class A stations] must be in writing with a copy of the designation posted with the station license.”; § 74.733(i), which states that “[t]he provisions of § 74.765 concerning posting of station license shall apply to a UHF translator signal booster . . .”; § 74.781(c), which states that “[t]he name of the person keeping [LPTV and TV translator] station records, together with the address of the place where the records are kept, shall be posted in accordance with § 74.765(c) of the rules.”; § 74.787(a)(5)(viii), which applies § 74.765 to digital low power television and television translator stations; § 74.789; and § 74.1281, which references § 74.1265(b). These rule changes are intended to reduce outdated regulations and unnecessary regulatory burdens that can impede competition and innovation in media markets.

12. Summary of Significant Issues Raised by Public Comments in Response to the IRFA. No comments were filed in response to the IRFA.

13. Response to Comments by the Chief Counsel for Advocacy of the Small Business Administration. Pursuant to the Small Business Jobs Act of 2010, which amended the RFA, the Commission is required to respond to any comments filed by the Chief Counsel for Advocacy of the SBA and to provide a detailed statement of any change made to the proposed rules as a result of those comments.¹⁹ The Chief Counsel did not file any comments in response to this proceeding.

¹⁹ 5 U.S.C. 604(a)(3).

14. Description and Estimate of the Number of Small Entities to Which Rules Will Apply. The RFA directs agencies to provide a description of and, where feasible, an estimate of the number of small entities that will be affected by the rules adopted.²⁰ The RFA generally defines the term “small entity” as having the same meaning as the terms “small business,” “small organization,” and “small governmental jurisdiction” ²¹ In addition, the term “small business” has the same meaning as the term “small business concern” under the Small Business Act.²² A “small business concern” is one which: (1) Is independently owned and operated; (2) is not dominant in its field of operation; and (3) satisfies any additional criteria established by the SBA.²³ The final rules adopted herein affect small television and radio broadcast stations. A description of these small entities, as well as an estimate of the number of such small entities, is provided below.

²⁰ Id.

²¹ 5 U.S.C. 601(6).

²² 5 U.S.C. 601(3) (incorporating by reference the definition of “small-business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

²³ 15 U.S.C. 632.

15. Television Broadcasting. This Economic Census category “comprises establishments primarily engaged in broadcasting images together with sound.” ²⁴ These establishments operate television broadcast studios and facilities for the programming and transmission of programs to the public.²⁵ These establishments also produce or transmit visual programming to affiliated broadcast television stations, which in turn broadcast the programs to the public on a predetermined schedule. Programming may originate in their own studio, from an affiliated network, or from external sources. The SBA has created the following small business size standard for such businesses: Those having $38.5 million or less in annual receipts.²⁶ The 2012 Economic Census reports that 751 firms in this category operated in that year. Of that number, 656 had annual receipts of less than $25,000,000, and 95 had annual receipts of $25,000,000 or more.²⁷ Based on this data, we estimate that the majority of commercial television broadcasters are small entities under the applicable SBA size standard.

²⁴ U.S. Census Bureau, 2012 North American Industry Classification System (NAICS) Definitions, “515120 Television Broadcasting,” http://www.census.gov./cgi-bin/sssd/naics/naicsrch.

²⁵ Id.

²⁶ 13 CFR 121.201; 2012 NAICS Code 515120.

²⁷ U.S. Census Bureau, Table No. EC1251SSSZ4, Information: Subject Series—Establishment and Firm Size: Receipts Size of Firms for the United States: 2012 (515120 Television Broadcasting), https://factfinder.census.gov/faces/tableservices/jsf/pages/productview.xhtml?pid=ECN_2012_US_51SSSZ4&prodType=table.

16. In addition, the Commission has estimated the number of licensed commercial television stations to be 1,349.²⁸ Of this total, 1,277 stations had revenues of $38.5 million or less, according to Commission staff review of the BIA Kelsey Inc. Media Access Pro Television Database (BIA) on October 1, 2018. Such entities, therefore, qualify as small entities under the SBA definition. The Commission has estimated the number of licensed noncommercial educational (NCE) television stations to be 412.²⁹ The Commission, however, does not compile and does not have access to information on the revenue of NCE stations that would permit it to determine how many such stations would qualify as small entities.

²⁸ FCC News Release, Broadcast Station Totals as of September 30, 2018 (rel. Oct. 3, 2018) (Broadcast Station Totals), https://www.fcc.gov/document/broadcast-station-totals-september-30-2018.

²⁹ Id.

17. We note, however, that in assessing whether a business concern qualifies as “small” under the above definition, business (control) affiliations ³⁰ must be included. Our estimate, therefore likely overstates the number of small entities that might be affected by our action, because the revenue figure on which it is based does not include or aggregate revenues from affiliated companies. In addition, another element of the definition of “small business” requires that an entity not be dominant in its field of operation. We are unable at this time to define or quantify the criteria that would establish whether a specific television broadcast station is dominant in its field of operation. Accordingly, the estimate of small businesses to which the proposed rules would apply does not exclude any television station from the definition of a small business on this basis and therefore could be over-inclusive.

³⁰ “[Business concerns] are affiliates of each other when one concern controls or has the power to control the other or a third party or parties controls or has the power to control both.” 13 CFR 21.103(a)(1).

18. There are also 1,911 LPTV stations and 389 Class A stations.³¹ Given the nature of these services, we will presume that all of these entities qualify as small entities under the above SBA small business size standard.

³¹ Broadcast Station Totals supra note 28.

19. Radio Stations. This economic Census category “comprises establishments primarily engaged in broadcasting aural programs by radio to the public.” ³² The SBA has created the following small business size standard for this category: Those having $38.5 million or less in annual receipts.³³ Census data for 2012 shows that 2,849 firms in this category operated in that year.³⁴ Of this number, 2,806 firms had annual receipts of less than $25,000,000, and 43 firms had annual receipts of $25,000,000 or more.³⁵ Therefore, based on the SBA's size standard, the majority of such entities are small entities.

³² U.S. Census Bureau, 2012 NAICS Definitions, “515112 Radio Stations,” at http://www.census.gov/cgi-bin/sssd/naics/naicsrch. This category description continues, “Programming may originate in their own studio, from an affiliated network, or from external sources.”

³³ 13 CFR 121.201; NAICS code 515112.

³⁴ U.S. Census Bureau, Table No. EC0751SSSZ4, Information: Subject Series—Establishment and Firm Size: Receipts Size of Firms for the United States: 2012 (515112), http://factfinder2.census.gov/faces/tableservices/jsf/pages/productview.xhtml?pid=ECN_2007_US_51SSSZ4&prodType=table.

³⁵ Id.

20. Apart from the U.S. Census, the Commission has estimated the number of licensed commercial AM radio stations to be 4,626 stations ³⁶ and the number of commercial FM radio stations to be 6,737, for a total number of 11,363.³⁷ Of this total, 11,362 stations had revenues of $38.5 million or less, according to Commission staff review of the BIA Kelsey Inc. Media Access Pro Television Database (BIA) on October 1, 2018. In addition, the Commission has estimated the number of noncommercial educational FM radio stations to be 4,130.³⁸ NCE stations are non-profit, and therefore considered to be small entities.³⁹ Therefore, we estimate that the majority of radio broadcast stations are small entities.

³⁶ Broadcast Station Totals supra note 28.

³⁷ Id.

³⁸ Id.

³⁹ 5 U.S.C. 601(4), (6).

21. Low Power FM Stations. The same SBA definition that applies to radio stations would apply to low power FM stations. As noted above, the SBA has created the following small business size standard for this category: Those having $38.5 million or less in annual receipts.⁴⁰ The Commission has estimated the number of licensed low power FM stations to be 1,966.⁴¹ In addition, as of June 30, 2017, there were a total of 7,453 FM translator and FM booster stations.⁴² Given the nature of these services, we will presume that these licensees qualify as small entities under the SBA definition.

⁴⁰ 13 CFR 121.201, NAICS Code 515112.

⁴¹ News Release, “Broadcast Station Totals as of June 30, 2017” (rel. July 11, 2017) (http://fjallfoss.fcc.gov/edocs_public/attachmatch/DOC-304594A1315231A1.pdf).

⁴² News Release, “Broadcast Station Totals as of June 30, 2017” (rel. July. 11, 2017).

22. We note again, however, that in assessing whether a business concern qualifies as “small” under the above definition, business (control) affiliations ⁴³ must be included. Because we do not include or aggregate revenues from affiliated companies in determining whether an entity meets the applicable revenue threshold, our estimate of the number of small radio broadcast stations affected is likely overstated. In addition, as noted above, one element of the definition of “small business” is that an entity not be dominant in its field of operation. We are unable at this time to define or quantify the criteria that would establish whether a specific radio broadcast station is dominant in its field of operation. Accordingly, our estimate of small radio stations potentially affected by the proposed rules includes those that could be dominant in their field of operation. For this reason, such estimate likely is over-inclusive.

⁴³ “[Business concerns] are affiliates of each other when one concern controls or has the power to control the other or a third party or parties controls or has the power to control both.” 13 CFR 21.103(a)(1).

23. Description of Reporting, Record Keeping, and Other Compliance Requirements for Small Entities. In this section, we identify the reporting, recordkeeping, and other compliance requirements in the Order and consider whether small entities are affected disproportionately by any such requirements.

24. Reporting Requirements. The Order does not adopt new reporting requirements.

25. Recordkeeping Requirements. The Order does not adopt new recordkeeping requirements.

26. Other Compliance Requirements. The Order does not adopt new compliance requirements. Because no commenter provided information specifically quantifying the costs and administrative burdens of complying with the existing recordkeeping requirements, we cannot precisely estimate the impact on small entities of eliminating them. The adopted rule revisions remove certain record keeping requirements for all affected broadcast licensees, including small entities. Numerous parties in the Modernization of Media Regulation Initiative, including all parties which commented on the NPRM have requested that the Commission remove broadcast license posting requirements and related record keeping requirements and no parties in this proceeding opposed such proposals.

27. Steps Taken to Minimize Significant Economic Impact on Small Entities, and Significant Alternatives Considered. The RFA requires an agency to describe any significant alternatives that it has considered in reaching its approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.⁴⁴

⁴⁴ 5 U.S.C. 603(c)(1)-(4).

28. The Order eliminates recordkeeping obligations requiring the posting of broadcast stations' license and other authorizations.⁴⁵ These actions are intended to modernize the Commission's regulations and reduce costs and recordkeeping burdens for affected entities, including small entities. Under the revised rules, affected entities no longer will need to expend time and resources posting licenses and related information already available to the Commission, and most of which is publicly accessible by electronic means.

⁴⁵ See supra Section A.

B. Paperwork Reduction Analysis

29. This document eliminates, and thus does not contain new or revised, information collection requirements subject to the Paperwork Reduction Act of 1995 (PRA), Public Law 104-13, 44 U.S.C. 3501-3520. In addition, therefore, it does not contain any new or modified “information burden for small business concerns with fewer than 25 employees” pursuant to the Small Business Paperwork Relief Act of 2002, Public Law 107-198, 44 U.S.C. 3506(c)(4).

C. Congressional Review Act

30. The Commission will send a copy of this Order to Congress and the Government Accountability Office pursuant to the Congressional Review Act, see 5 U.S.C. 801(a)(1)(A).

31. Additional Information.—For additional information on this proceeding, contact Jonathan Mark, Jonathan.Mark@fcc.gov, of the Media Bureau, Policy Division, (202) 418-3634.

III. Ordering Clauses

32. Accordingly, it is ordered that, pursuant to the authority found in sections 1, 4(i), 4(j), 303, 309, 310, and 336 of the Communications Act of 1934, as amended, 47 U.S.C. 151, 154(i), 154(j), 303, 309, 310, and 336, this Report and Order is adopted.

33. It is further ordered that the Commission's rules are hereby amended as set forth in the Final Rules below, effective as of the date of publication of a summary in the Federal Register.⁴⁶

⁴⁶ These rules serve to “reliev[e] a restriction.” 5 U.S.C. 553(d)(1).

34. It is further ordered that the Commission's Consumer and Governmental Affairs Bureau, Reference Information Center, shall send a copy of this Report and Order, including the Final Regulatory Flexibility Analysis, to the Chief Counsel for Advocacy of the Small Business Administration.

35. It is further ordered that the Commission shall send a copy of the Report and Order in a report to Congress and the Government Accountability Office pursuant to the Congressional Review Act (CRA).

List of Subjects

47 CFR Part 0

Reporting and Recordkeeping Requirements.

47 CFR Part 1

Communications common carriers, Radio, Reporting and recordkeeping requirements, Television.

47 CFR Part 5

Radio, Reporting and recordkeeping requirements.

47 CFR Parts 73 and 74

Radio, Reporting and recordkeeping requirements, Television.

Federal Communications Commission.
Katura Jackson,
Federal Register Liaison Officer, Office of the Secretary.

Final Rules

For the reasons discussed in the preamble, the Federal Communications Commission amends 47 CFR parts 0, 1, 5, 73, and 74 as follows:

PART 0—COMMISSION ORGANIZATION

1. The authority citation for part 0 continues to read as follows:

Authority: Sec. 5, 48 Stat. 1068, as amended; 47 U.S.C. 155, 225, unless otherwise noted.

2. Amend § 0.408 in the table in paragraph (b) by revising the entry “3060-0633” to read as follows:

§ 0.408 OMB control numbers and expiration dates assigned pursuant to the Paperwork Reduction Act of 1995.

* * * * *

(b) * * *

OMB control No. | FCC form no. or 47 CFR section or part, docket no., or title identifying the collection | OMB expiration date
* * * * * * *
3060-0633 | Secs. 74.165, 74.432, and 74.832 | 04/30/18
* * * * * * *

PART 1—PRACTICE AND PROCEDURE

3. The authority citation for part 1 continues to read as follows:

Authority: 47 U.S.C. chs. 2, 5, 9, 13; Sec. 102(c), Div. P, Public Law 115-141, 132 Stat. 1084; 28 U.S.C. 2461, unless otherwise noted.

4. Amend § 1.62 by revising paragraph (a)(2) to read as follows:

§ 1.62 Operation pending action on renewal application.

(a) * * *

(2) A non-broadcast licensee operating by virtue of this paragraph (a) shall, after the date of expiration specified in the license, post, in addition to the original license, any acknowledgment received from the Commission that the renewal application has been accepted for filing or a signed copy of the application for renewal of license which has been submitted by the licensee, or in services other than common carrier, a statement certifying that the licensee has mailed or filed a renewal application, specifying the date of mailing or filing.

* * * * *

PART 5—EXPERIMENTAL RADIO SERVICE

5. The authority citation for part 5 continues to read as follows:

Authority: 47 U.S.C. 154, 301, 302, 303, 307, 336.

6. Amend § 5.203 by revising paragraph (b) to read as follows:

§ 5.203 Experimental authorizations for licensed broadcast stations.

* * * * *

(b) Experimental authorizations for licensed broadcast stations may be requested by filing an informal application with the FCC in Washington, DC, describing the nature and purpose of the experimentation to be conducted, the nature of the experimental signal to be transmitted, and the proposed schedule of hours and duration of the experimentation.

* * * * *

PART 73—RADIO BROADCAST SERVICES

7. The authority citation for part 73 continues to read as follows:

Authority: 47 U.S.C. 154, 155, 301, 303, 307, 309, 310, 334, 336, 339.

8. Amend § 73.158 by revising paragraph (b) to read as follows:

§ 73.158 Directional antenna monitoring points.

* * * * *

(b) When the description of the monitoring point as shown on the station license is no longer correct due to road or building construction or other changes, the licensee must prepare and file with the FCC, in Washington, DC, a request for a corrected station license showing the new monitoring point description. The request shall include the information specified in paragraphs (a)(3) and (4) of this section, and a copy of the station's current license.

§ 73.801 [Amended]

9. Amend § 73.801 by removing “Section 73.1230 Posting of station license”.

§ 73.1230 [Removed]

10. Remove § 73.1230.

11. Amend § 73.1715 by revising paragraph (a) to read as follows:

§ 73.1715 Share time.

* * * * *

(a) If the licenses of stations authorized to share time do not specify hours of operation, the licensees shall endeavor to reach an agreement for a definite schedule of periods of time to be used by each. Such agreement shall be in writing and each licensee shall file it in duplicate original with each application to the FCC in Washington, DC for renewal of license. If and when such written agreements are properly filed in conformity with this section, the file mark of the FCC will be affixed thereto, one copy will be retained by the FCC, and one copy returned to the licensee and will be considered as part of the station's license. If the license specifies a proportionate time division, the agreement shall maintain this proportion. If no proportionate time division is specified in the license, the licensees shall agree upon a division of time. Such division of time shall not include simultaneous operation of the stations unless specifically authorized by the terms of the license

* * * * *

12. Amend § 73.1725 by revising paragraph (c) to read as follows:

§ 73.1725 Limited time.

* * * * *

(c) The licensee of a secondary station which is authorized to operate limited time and which may resume operation at the time the Class A station (or stations) on the same channel ceases operation shall, with each application for renewal of license, file in triplicate a copy of its regular operating schedule. It shall bear a signed notation by the licensee of the Class A station of its objection or lack of objection thereto. Upon approval of such operating schedule, the FCC will affix its file mark and return one copy to the licensee authorized to operate limited time. Such approved operating schedule shall be considered part of the station's license. Departure from said operating schedule will be permitted only pursuant to § 73.1715 (Share time).

13. Amend § 73.1870 by revising paragraph (b)(3) to read as follows:

§ 73.1870 Chief operators.

* * * * *

(b) * * *

(3) The designation of the chief operator must be in writing. Agreements with chief operators serving on a contract basis must be in writing with a copy kept in the station files.

* * * * *

PART 74—EXPERIMENTAL RADIO, AUXILIARY, SPECIAL BROADCAST AND OTHER PROGRAM DISTRIBUTIONAL SERVICES

14. The authority citation for part 74 continues to read as follows:

Authority: 47 U.S.C. 154, 302a, 303, 307, 309, 310, 336 and 554.

15. Amend § 74.432 by revising paragraph (j) and removing the note at the end of the section to read as follows:

§ 74.432 Licensing requirements and procedures.

* * * * *

(j) The license shall be retained in the licensee's files at the address shown on the authorization.

* * * * *

§ 74.564 [Removed]

16. Remove § 74.564.

§ 74.664 [Removed]

17. Remove § 74.664.

§ 74.733 [Amended]

18. Amend § 74.733 by removing paragraph (i), redesignating paragraph (j) as paragraph (i), and removing the note at the end of the section.

§ 74.765 [Removed]

19. Remove § 74.765.

20. Amend § 74.781 by revising paragraph (c) to read as follows:

§ 74.781 Station records.

* * * * *

(c) The station records shall be maintained for inspection at a residence, office, or public building, place of business, or other suitable place, in one of the communities of license of the translator or booster, except that the station records of a booster or translator licensed to the licensee of the primary station may be kept at the same place where the primary station records are kept. The station records shall be made available upon request to any authorized representative of the Commission.

* * * * *

§ 74.787 [Amended]

21. Amend § 74.787(a)(5)(viii) by removing “§ 74.765 Posting of station and operator licenses”.

§ 74.789 [Amended]

22. Amend § 74.789 by removing “§ 74.765 Posting of station and operator licenses”.

23. Amend § 74.832 by revising paragraph (j) to read as follows:

§ 74.832 Licensing requirements and procedures.

* * * * *

(j) The license shall be retained in the licensee's files at the address shown on the authorization.

§ 74.1265 [Removed]

24. Remove § 74.1265.

25. Amend § 74.1281 by revising paragraph (c) to read as follows:

§ 74.1281 Station records.

* * * * *

(c) The station records shall be maintained for inspection at a residence, office, or public building, place of business, or other suitable place, in one of the communities of license of the translator or booster, except that the station records of a booster or translator licensed to the licensee of the primary station may be kept at the same place where the primary station records are kept. The station records shall be made available upon request to any authorized representative of the Commission.

* * * * *

[FR Doc. 2019-01491 Filed 2-7-19; 8:45 am]

BILLING CODE 6712-01-P